DEPARTMENT OF DEFENSE

GENERAL SERVICES ADMINISTRATION

NATIONAL AERONAUTICS AND SPACE ADMINISTRATION

[OMB Control No. 9000-0154; Docket 2015-0053; Sequence 4]

Submission to OMB for Review; Federal Acquisition Regulation; Construction Rate Requirements-Price Adjustment (Actual Method)

AGENCY: Department of Defense (DOD), General Services Administration (GSA), and National Aeronautics and Space Administration (NASA).

ACTION: Notice of request for public comments regarding an extension to an existing OMB clearance.

SUMMARY: Under the provisions of the Paperwork Reduction Act, the Regulatory Secretariat will be submitting to the Office of Management and Budget (OMB) a request to review and approve an extension of a previously approved information collection requirement concerning the Construction Rate Requirements-Price Adjustment (Actual Method). A notice published in the Federal Register at 80 FR 11205 on March 2, 2015. No comments were received.

DATES: Submit comments on or before July 13, 2015.

ADDRESSES: Submit comments identified by Information Collection 9000-0154, Construction Rate Requirements-Price Adjustment (Actual Method), by any of the following methods:

• Regulations.gov: http://www.regulations.gov.

Submit comments via the Federal eRulemaking portal by searching the OMB control number 9000-0154. Select the link “Comment Now” that corresponds with “Information Collection 9000-0154, Construction Rate Requirements-Price Adjustment (Actual Method)”. Follow the instructions provided on the screen. Please include your name, company name (if any), and “Information Collection 9000-0154, Construction Rate Requirements-Price Adjustment (Actual Method)” on your attached document.

• Mail: General Services Administration, Regulatory Secretariat Division (MVCB), 1800 F Street NW., Washington, DC 20405. ATTN: Ms. Flowers/IC 9000-0154, Construction Rate Requirements-Price Adjustment (Actual Method).

Instructions: Please submit comments only and cite Information Collection 9000-0154, Construction Rate Requirements-Price Adjustment (Actual Method), in all correspondence related to this collection. All comments received will be posted without change to http://www.regulations.gov, including any personal and/or business confidential information provided.

FOR FURTHER INFORMATION CONTACT: Mr. Edward Loeb, Procurement Analyst, Federal Acquisition Policy Division, GSA, 202-501-0650, or via email Edward.loeb@gsa.gov.

SUPPLEMENTARY INFORMATION:

A. Purpose

Government contracting officers may include FAR clause 52.222-32, Construction Rate Requirements-Price Adjustment (Actual Method) in fixed-price solicitations and contracts, subject to the Construction Wage Rate Requirements statute under certain conditions. The conditions are that the solicitation or contract contains option provisions to extend the term of the contract and the contracting officer determines that the most appropriate method to adjust the contract price at option exercise is to use a computation method based on the actual increase or decrease from a new or revised Department of Labor Construction Wage Rate Requirements statute wage determination.

The clause requires that a contractor submit at the exercise of each option to extend the term of the contract, a statement of the amount claimed for incorporation of the most current wage determination by the Department of Labor, and any relevant supporting data, including payroll records, that the contracting officer may reasonably require. The information is used by Government contracting officers to establish the contract price adjustment for the construction requirements of a contract, generally if the contract requirements are predominantly services subject to the Service Contract Labor Standards.

B. Annual Reporting Burden

Respondents: 842.

Responses per Respondent: 1.

Annual Responses: 842.

Hours per Response: 40.

Total Burden Hours: 33,680.

C. Public Comments

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat Division (MVCB), 1800 F Street NW., Washington, DC 20405, telephone 202-501-4755. Please cite OMB Control No. 9000-0154, Construction Rate Requirements-Price Adjustment (Actual Method), in all correspondence.

Dated: June 8, 2015.
Edward Loeb,
Acting Director, Office of Government-wide Acquisition Policy, Office of Acquisition Policy, Office of Government-wide Policy.

[FR Doc. 2015-14438 Filed 6-11-15; 8:45 am]

BILLING CODE 6820-EP-P